DEPARTMENT OF LABOR

Comment Request; State Exchange on Employment and Disability (SEED) Initiative Implementation Evaluation Survey

AGENCY: Office of the Assistant Secretary for Policy, Chief Evaluation Office, Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed. Currently, the Department of Labor is soliciting comments concerning the collection of data about the State Exchange on Employment and Disability (SEED) Initiative Implementation Evaluation Survey. A copy of the proposed Information Collection Request (ICR) can be obtained by contacting the office listed in the addressee section of this notice.

DATES: The OMB will consider all written comments that the agency receives on or before January 23, 2017.

ADDRESSES: You may submit comments by either one of the following methods:

Email: ChiefEvaluationOffice@dol.gov; Mail or Courier: Cherise Hunter, Office of Disability Employment Policy, U.S. Department of Labor, 200 Constitution Avenue NW., Room S-1303, Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Contact Cherise Hunter by email at chiefevaluationoffice@dol.gov.

SUPPLEMENTARY INFORMATION:

I. Background.

The proposed information collection activities described in this notice will provide data for the State Exchange on Employment and Disabilities (SEED) Evaluation. In the fall of 2015, The Office of Disability Employment (ODEP) launched the SEED initiative. The SEED initiative is designed to advance policy at the state and local levels that promote employment opportunities for people with disabilities through collaborative engagement of intermediary organizations that serve as value added interfaces between and among various levels of government and entities with overlapping interests. A formative evaluation of SEED has been undertaken to provide feedback and information to the SEED implementation team to make the initiative as efficient and effective as possible. This Federal Register Notice provides the opportunity to comment on one proposed data collection instrument that will be used in the SEED evaluation:

(1) SEED Implementation Evaluation Survey. This survey will be distributed to a sample of State legislators and their staff who are members of intermediary organizations participating in the SEED initiative. It will identify barriers and needs to inform the SEED implementation team on what SEED could do to assist states interested in adopting disability employment policies. It will also provide feedback from State legislators and staff regarding their perceptions of SEED activities and resources to date as well as identify where State legislators are currently getting their information about disability employment policy issues to improve outreach.

II. Review Focus

Currently, DOL is soliciting comments concerning the above data collection for the evaluation of SEED. DOL is particularly interested in comments that do the following:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Action

At this time, DOL is requesting clearance for the SEED Implementation Evaluation Survey.

Type of Review: New Information Collection.

OMB Control Number: 1290-0NEW.

Title: State Exchange on Employment and Disability (SEED) Initiative Implementation Evaluation Survey.

Estimated Total Burden Hours—SEED Implementation Evaluation Survey
Respondents | Number of respondents | Number of responses per respondent | Total responses | Estimated time per response (hours) | Estimated total burden (hours)
State legislators and staff who are members of organizations participating in the SEED initiative | 1,039 | 1 | 1,039 | .22 | 228.58

Affected Public: A sample of State legislators and their staff who are members of intermediary organizations participating in the SEED initiative.

Annual Frequency: One time for the SEED initiative evaluation survey.

Comments submitted in response to this comment request will be summarized and/or included in the request for Office of Management and Budget approval of the information collection request; they will also become a matter of public record.

Dated: November 15, 2016.
Sharon Block,
Principal Deputy Assistant Secretary for Policy, U.S. Department of Labor.

[FR Doc. 2016-28264 Filed 11-22-16; 8:45 am]

BILLING CODE 4510-HX-P